DEPARTMENT OF TRANSPORTATION

Federal Highway Administration

Environmental Impact Statement: Port Huron township and City of Port Huron, MI

AGENCY: Federal Highway Administration (FHWA), DOT.

ACTION: Notice of intent.

SUMMARY: The FHWA is reissuing this Notice to advise the public of changes to the Environmental Assessment that was to be prepared for the proposed improvements to the I-94/I-69 corridor and the Black River Bridge in Port Huron Township, MI and changes to the Environmental Impact Statement that was to be prepared for the proposed improvements to the United States Port of entry Plaza for the Blue Water Bridge in St. Clair County, Michigan. This Notice revises the published Notices of Intent of January 27, 2005 and November 7, 2006.

FOR FURTHER INFORMATION CONTACT: Mr. Ryan Rizzo, Major Projects Manager, Federal Highway Administration, 315 W. Allegan Street, Room 201, Lansing, Michigan 48933, Telephone (517) 702-1833.

SUPPLEMENTARY INFORMATION: The FHWA in cooperation with the Michigan Department of Transportation (MDOT) is preparing an Environmental Impact Statement (EIS) to evaluate alternatives for potential improvements to the United States Border Plaza at the Blue Water Bridge.

The Blue Water Bridge is a major passenger and commercial border crossing between the United States and Canada and is the termination point for I-94 in the United States and for Highway 402 in Canada. MDOT owns and operates the Blue Water Bridge in conjunction with the Canadian Blue Water Bridge Authority (BWBA), MDOT also owns and operates the Blue Water Bridge Border Plaza. Several inspection agencies operate on the United States Plaza. The agencies are responsible for inspecting vehicles, goods, and people entering the United States and include: The Bureau of Customs and border Protection (CBO), the United States Department of Agriculture (USDA), and the Food and Drug Administration (FDA). The inspection agencies lease facilities on the United States Plaza from MDOT through the General Services Administration (GSA), which serves as the Federal-leasing agent. MDOT collects tolls from vehicles departing the United States for Canada on the plaza.

The study area is located within the City of Port Huron and Port Huron Township. The study area consists of approximately 30 blocks (195 acres) of urban land use surrounding the existing plaza and ramps and extends to the west along I-94/I-69 approximately 2.2 miles. The study area includes the Black River Bridge, Water Street interchange, Lapeer Connector interchange, and locations for possible off-site inspection facilities, located north of I-94/I-69 and west of the Water Street interchange.

In September 2002, this project started as an Environmental Assessment (EA) and proceeded through the scoping phase, Purpose and Need documentation, and three public information meetings. As a result of identified potentially significant impacts, FHWA and MDOT concluded in 2004 that an Environmental Impact Statement should be completed. In 2006 after further analysis, it was decided that the project could be split into two environmental documents: and Environmental Assessment for the I-94/I-69 corridor improvements and an Environmental Impact Statement for the plaza project. In early 2007, after additional consultation with stakeholders and interested parties, it was determined that the two separate studies should be merged into one and the I-94/I-69 improvements will be a part of the Environmental Impact Statement.

Four plaza and transportation improvement alternatives have been identified within the recommended study area. Alternatives will include: (1) No-Build Alternative, (2) Township alternative with a secured I-94 corridor, (3) City alternative with Pine Grove Avenue relocated to the east and an unsecured I-94 corridor.

Agency and citizen involvement will continue to be solicited throughout this process. A public hearing will be held on the Draft Environmental Impact Statement (DEIS). Public notice will be given of the time and place of the hearing. The DEIS will be available for public and agency review and comment prior to the public hearing.

To ensure that the full range of issues related to this proposed action are addressed and all significant issues identified, comments and suggestions are invited from all interested parties. Comments or questions concerning this proposed action and the EIS should be directed to the FHWA at the address provided above.

Issued on: April 20, 2007.
James J. Steele,
Division Administrator, Lansing, Michigan.

[FR Doc. 07-2112 Filed 4-30-07; 8:45 am]

BILLING CODE 4910-22-M